DEPARTMENT OF HOMELAND SECURITY

Bureau of Customs and Border Protection

19 CFR Parts 7, 10, 11, 12, 18, 19, 24, 54, 101, 102, 111, 114, 123, 128, 132, 134, 141, 145, 146, 148, 151, 152, 177, 181, 191

[CBP Dec. 05-31]

Technical Amendments to Chapter 1 of Title 19 of the Code of Federal Regulations

AGENCY: Customs and Border Protection, Homeland Security.

ACTION: Final rule.

SUMMARY: This document amends Title 19 of the Code of Federal Regulations by making technical corrections to certain authority citations to reflect amendments to the Harmonized Tariff Schedule of the United States effected by the President's Proclamation of December 30, 2003, to implement the United States-Singapore Free Trade Agreement.

EFFECTIVE DATE: September 7, 2005.

FOR FURTHER INFORMATION CONTACT: Suzanne Kingsbury, Regulations Branch, Office of Regulations and Rulings, Customs and Border Protection, Tel. (202) 572-8763.

SUPPLEMENTARY INFORMATION:

Background

Chapter I of Title 19 of the Code of Federal Regulations (19 CFR Chapter I) contains general and specific authority citations, several of which reference certain General Note provisions of the Harmonized Tariff Schedule of the United States (HTSUS). As a result of recent amendments to the HTSUS, several General Note provisions have been renumbered; however, the new designations are not yet reflected in Title 19 of the CFR. This document makes conforming technical corrections to Title 19 CFR to reflect the renumbered General Note provisions of the HTSUS.

The amendments to the HTSUS were effected by the United States-Singapore Free Trade Agreement (“USSFTA”), Public Law 108-78, 117 Stat. 948 (19 U.S.C. 3805 note), enacted on September 3, 2003. On December 30, 2003, the President issued Proclamation 7747 (68 FR 75793) to implement certain provisions of the USSFTA. Annex I of Proclamation 7747 modified the HTSUS, in pertinent part, as follows:

• The text of General Note (GN) 19 to the HTSUS is transferred and designated as GN 3(e).

• The text of General Note (GN) 20 to the HTS is transferred and designated as GN 3(f).

• The text of General Notes (GN) 23 and 24 of the HTSUS is transferred and designated as GN 3(i) and (j), respectively.

This document makes technical corrections to those provisions of 19 CFR Chapter 1 that contain references to the out-dated General Note citations.

Inapplicability of Public Notice and Comment Requirement and Delayed Effective Date Requirement

Because these amendments merely update certain authority citations in 19 CFR Chapter 1, pursuant to 5 U.S.C. 553(b)(B), CBP finds that good cause exists for dispensing with notice and public procedure as unnecessary. For these same reasons, pursuant to 5 U.S.C. 553(d)(3), CBP finds that good cause exists for dispensing with the requirement for a delayed effective date.

The Regulatory Flexibility Act

Because this document is not subject to the notice and public procedure requirements of 5 U.S.C. 553, it is not subject to the provisions of the Regulatory Flexibility Act (5 U.S.C. et seq.).

Executive Order 12866

These amendments do not meet the criteria for a “significant regulatory action” as specified in E.O. 12866.

Signing Authority

This document is limited to technical corrections and is being issued in accordance with 19 CFR 0.1(b)(1), which provides, pursuant to Treasury Department Order No. 100-16, the Secretary of Homeland Security with the authority to prescribe and approve regulations relating to customs revenue functions on behalf of the Secretary of the Treasury when the subject matter of the regulations is not listed in paragraph 1(a)(i) of the order. Such regulations are the official regulations of both Departments notwithstanding that they are not signed by an official of the Department of the Treasury. Accordingly, these regulations are signed by the Commissioner of Customs and Border Protection as the delegate of the Secretary of Homeland Security.

Drafting Information

The principal author of this document was Ms. Suzanne Kingsbury, Attorney, Regulations Branch, Office of Regulations and Rulings.

List of Subjects

19 CFR Part 7

American Samoa; Coffee; Customs duties and inspection; Guam; Guantanamo Bay Naval Station, Cuba; Kingman Reef; Liquors; Midway Islands; Puerto Rico; Wake Island; Wine.

19 CFR Part 10

Caribbean Basin initiative; Customs duties and inspection; Exports; Reporting and recordkeeping requirements.

19 CFR Parts 11 and 134

Customs duties and inspection; Labeling; Packaging and containers.

19 CFR Parts 12 and 141

Customs duties and inspection; Reporting and recordkeeping requirements.

19 CFR Part 18

Common carriers; Customs duties and inspection; Exports; Freight; Penalties; Reporting and recordkeeping requirements; Surety bonds.

19 CFR Part 19

Customs duties and inspection; Exports; Freight; Reporting and recordkeeping requirements; Surety bonds; Warehouses; Wheat.

19 CFR Part 24

Accounting; Claims; Customs duties and inspection; Harbors; Reporting and recordkeeping requirements; Taxes.

19 CFR Part 54

Customs duties and inspection; Metals; Reporting and recordkeeping requirements.

19 CFR Part 101

Customs duties and inspection; Harbors; Organization and functions (Government agencies); Seals and insignia; Vessels.

19 CFR Part 102

Canada; Customs duties and inspection; Imports; Mexico; Reporting and recordkeeping requirements; Trade agreements.

19 CFR Part 111

Administrative practice and procedure; Brokers; Customs duties and inspection; Penalties; Reporting and recordkeeping requirements.

19 CFR Part 114

Customs duties and inspection; Exports; Trade agreements.

19 CFR Part 123

Canada; Customs duties and inspection; Freight; International boundaries; Mexico; Motor carriers; Railroads; Reporting and recordkeeping requirements; Vessels.

19 CFR Part 128

Administrative practice and procedure; Customs duties and inspection; Freight; Reporting and recordkeeping requirements.

19 CFR Part 132

Customs duties and inspection.

19 CFR Part 145

Customs duties and inspection; Exports; Lotteries; Reporting and recordkeeping requirements.

19 CFR Part 146

Administrative practice and procedure; Customs duties and inspection; Exports; Foreign trade zones; Penalties; Petroleum; Reporting and recordkeeping requirements.

19 CFR Part 148

Airmen; Customs duties and inspection; Foreign officials; Government employees; International organizations; Reporting and recordkeeping requirements; Seamen; Taxes.

19 CFR Part 151

Cigars and cigarettes; Cotton; Customs duties and inspection; Fruit juices; Laboratories; Metals; Oil imports; Reporting and recordkeeping requirements; Sugar; Wool.

19 CFR Part 152

Customs duties and inspection.

19 CFR Part 177

Administrative practice and procedure; Customs duties and inspection; Government procurement; Reporting and recordkeeping requirements.

19 CFR Part 181

Administrative practice and procedure; Canada; Customs duties and inspection; Exports; Imports; Mexico; Reporting and recordkeeping requirements; Trade agreements.

19 CFR Part 191

Alcohol and alcoholic beverages; Claims; Customs duties and inspection; Exports; Foreign trade zones; Guantanamo Bay Naval Station, Cuba; Packaging and containers; Reporting and recordkeeping requirements; Trade agreements.

Amendments to the Regulations

Chapter 1 of Title 19 of the Code of Federal Regulations (19 CFR chapter I) is amended as set forth below:

PART 7—CUSTOMS RELATIONS WITH INSULAR POSSESSIONS AND GUANTANAMO BAY NAVAL STATION

1. The authority citation for part 7 is revised to read as follows:

Authority: 19 U.S.C. 66, 1202 (General Note 3(i), Harmonized Tariff Schedule of the United States), 1623, 1624; 48 U.S.C. 1406i.

PART 10—ARTICLES CONDITIONALLY FREE, SUBJECT TO A REDUCED RATE, ETC.

2. The general authority citation for part 10 is revised to read as follows:

Authority: 19 U.S.C. 66, 1202 (General Note 3(i), Harmonized Tariff Schedule of the United States (HTSUS)), 1321, 1481, 1484, 1498, 1508, 1623, 1624, 3314;

* * * * *

PART 11—PACKING AND STAMPING; MARKING

3. The authority citation for part 11 is revised to read as follows:

Authority: 5 U.S.C. 301; 19 U.S.C. 66, 1202 (General Note 3(i) and (j), Harmonized Tariff Schedule of the United States), 1624.

PART 12—SPECIAL CLASSES OF MERCHANDISE

4. The general authority citation for part 12 is revised to read as follows:

Authority: 5 U.S.C. 301; 19 U.S.C. 66, 1202 (General Note 3(i), Harmonized Tariff Schedule of the United States (HTSUS)), 1624;

* * * * *

PART 18—TRANSPORTATION IN BOND AND MERCHANDISE IN TRANSIT

5. The general authority citation for part 18 is revised to read as follows:

Authority: 5 U.S.C. 301; 19 U.S.C. 66, 1202 (General Note 3(i), Harmonized Tariff Schedule of the United States), 1551, 1552, 1553, 1623, 1624;

* * * * *

PART 19—CUSTOMS WAREHOUSES, CONTAINER STATIONS AND CONTROL OF MERCHANDISE THEREIN

6. The general authority citation for part 19 is revised to read as follows:

Authority: 5 U.S.C. 301; 19 U.S.C. 66, 1202 (General Note 3(i), Harmonized Tariff Schedule of the United States), 1624;

* * * * *

PART 24—CUSTOMS FINANCIAL AND ACCOUNTING PROCEDURE

7. The general authority citation for part 24 is revised to read as follows:

Authority: 5 U.S.C. 301; 19 U.S.C. 58a-58c, 66, 1202 (General Note 3(i), Harmonized Tariff Schedule of the United States), 1505, 1520, 1624; 26 U.S.C. 4461, 4462; 31 U.S.C. 9701; Public Law 107-296, 116 Stat. 2135 (6 U.S.C. 1 et. seq.);

* * * * *

PART 54—CERTAIN IMPORTATIONS TEMPORARILY FREE OF DUTY

8. The authority citation for part 54 is revised to read as follows:

Authority: 19 U.S.C. 66, 1202 (General Note 3(i); Section XV, Note 5, Harmonized Tariff Schedule of the United States), 1623, 1624.

PART 101—GENERAL PROVISIONS

9. The general authority citation for part 101 is revised to read as follows:

Authority: 5 U.S.C. 301; 19 U.S.C. 2, 66, 1202 (General Note 3(i), Harmonized Tariff Schedule of the United States), 1623, 1624, 1646a.

* * * * *

PART 102—RULES OF ORIGIN

10. The authority citation for part 102 is revised to read as follows:

Authority: 19 U.S.C. 66, 1202 (General Note 3(i), Harmonized Tariff Schedule of the United States), 1624, 3314, 3592.

PART 111—CUSTOMS BROKERS

11. The general authority citation for part 111 is revised to read as follows:

Authority: 19 U.S.C. 66, 1202 (General Note 3(i), Harmonized Tariff Schedule of the United States), 1624, 1641.

* * * * *

PART 114—CARNETS

12. The authority citation for part 114 is revised to read as follows:

Authority: 19 U.S.C. 66, 1202 (General Note 3(i), Harmonized Tariff Schedule of the United States), 1623, 1624.

PART 123—CUSTOMS RELATIONS WITH CANADA AND MEXICO

13. The general authority citation for part 123 is revised to read as follows:

Authority: 19 U.S.C. 66, 1202 (General Note 3(i), Harmonized Tariff Schedule of the United States (HTSUS)), 1431, 1433, 1436, 1448, 1624, 2071 note.

* * * * *

PART 128—EXPRESS CONSIGNMENTS

14. The authority citation for part 128 is revised to read as follows:

Authority: 19 U.S.C. 66, 1202 (General Note 3(i), Harmonized Tariff Schedule of the United States), 1321, 1484, 1498, 1551, 1555, 1556, 1565, 1624.

PART 132—QUOTAS

15. The general authority citation for part 132 is revised to read as follows:

Authority: 19 U.S.C. 66, 1202 (General Note 3(i), Harmonized Tariff Schedule of the United States (HTSUS)), 1623, 1624.

* * * * *

PART 134—COUNTRY OF ORIGIN MARKING

16. The authority citation for part 134 is revised to read as follows:

Authority: 5 U.S.C. 301; 19 U.S.C. 66, 1202 (General Note 3(i), Harmonized Tariff Schedule of the United States), 1304, 1624.

PART 141—ENTRY OF MERCHANDISE

17. The general authority citation for part 141 continues, and the specific authority for § 141.4 is revised, to read as follows:

Authority: 19 U.S.C. 66, 1448, 1484, 1624.

* * * * *

Section 141.4 also issued under 19 U.S.C. 1202 (General Note 3(e); Chapter 86, Additional U.S. Note 1; Chapter 89, Additional U.S. Note 1; Chapter 98, Subchapter III, U.S. Notes 3 and 4; Harmonized Tariff Schedule of the United States), 1498;

* * * * *

§ 141.4 [Amended]

18. Section 141.4 is amended:

(a) In paragraph (b)(1), by removing the reference to number “19” and adding in its place the term “3(e)”; and

(b) In paragraph (c)(2) by removing the word Customs” and adding in its place the term “CBP”.

PART 145—MAIL IMPORTATIONS

19. The general authority citation for part 145 is revised to read as follows:

Authority: 19 U.S.C. 66, 1202 (General Note 3(i), Harmonized Tariff Schedule of the United States), 1624;

* * * * *

PART 146—FOREIGN TRADE ZONES

20. The authority citation for part 146 is revised to read as follows:

Authority: 19 U.S.C. 66, 81a-81u, 1202 (General Note 3(i), Harmonized Tariff Schedule of the United States), 1623, 1624.

PART 148—PERSONAL DECLARATIONS AND EXEMPTIONS

21. The general authority citation for part 148 is revised to read as follows:

Authority: 19 U.S.C. 66, 1496, 1498, 1624. The provisions of this part, except for subpart C, are also issued under 19 U.S.C. 1202 (General Note 3(i), Harmonized Tariff Schedule of the United States);

* * * * *

PART 151—EXAMINATION, SAMPLING, AND TESTING OF MERCHANDISE

22. The general authority citation for part 151 is revised to read as follows:

Authority: 19 U.S.C. 66, 1202 (General Note 3(i) and (j), Harmonized Tariff Schedule of the United States (HTSUS)), 1624;

* * * * *

PART 152—CLASSIFICATION AND APPRAISEMENT OF MERCHANDISE

23. The general authority citation for part 152 continues, and the specific authority for § 152.13 is revised, to read as follows:

Authority: 19 U.S.C. 66, 1401a, 1500, 1502, 1624;

* * * * *

Section 152.13 also issued under 19 U.S.C. 1202 (General Note 3(f), Harmonized Tariff Schedule of the United States (HTSUS)).

§ 152.13 [Amended]

24. In § 152.13:

(a) Paragraph (b)(1) is amended by removing the word “Customs” and adding the term “CBP”, and by removing the reference to number “20” and adding in its place the term “3(f)”;

(b) Paragraphs (b)(2), (c) introductory text and (c)(1) are amended by removing references to number “20” each place they appear and adding in their place the term “3(f)”;

(c) Paragraph (c)(2) is amended by removing the word “Customs” and adding in its place the term “CBP”, and by removing the reference to number “20” and adding in its place the term “3(f)”;

(d) Paragraph (c)(3) is amended by removing the reference to number “20” and adding in its place the term “3(f)”; and

(e) Paragraph (d) is amended by removing the references to number “20” each place they appear and adding in their place the term “3(f)”.

PART 177—ADMINISTRATIVE RULINGS

25. The authority citation for part 177 is revised to read as follows:

Authority: 5 U.S.C. 301; 19 U.S.C. 66, 1202 (General Note 3(i), Harmonized Tariff Schedule of the United States), 1502, 1624, 1625;

PART 181—NORTH AMERICAN FREE TRADE AGREEMENT

26. The authority citation for part 181 is revised to read as follows:

Authority: 19 U.S.C. 66, 1202 (General Note 3(i), Harmonized Tariff Schedule of the United States), 1624, 3314;

PART 191—DRAWBACK

27. The general authority citation for part 191 is revised to read as follows:

Authority: 5 U.S.C. 301; 19 U.S.C. 66, 1202 (General Note 3(i), Harmonized Tariff Schedule of the United States), 1313, 1624;

* * * * *

Dated: September 1, 2005.
Robert C. Bonner,
Commissioner, Bureau of Customs and Border Protection.

[FR Doc. 05-17662 Filed 9-6-05; 8:45 am]

BILLING CODE 9110-06-P